OFFICE OF PERSONNEL MANAGEMENT

5 CFR Part 532

RIN 3206-AK06

Prevailing Rate Systems; Change in the Survey Month for the Bureau of Reclamation Mid-Pacific Region Survey

AGENCY: Office of Personnel Management.

ACTION: Final rule.

SUMMARY: The Office of Personnel Management is issuing a final rule to change the timing of annual wage surveys conducted by the Bureau of Reclamation (BOR), Department of the Interior, to determine prevailing rates of pay for supervisors of negotiated rate wage employees in the Bureau's Mid-Pacific Region.

EFFECTIVE DATE: This regulation is effective on January 31, 2004.

FOR FURTHER INFORMATION CONTACT: Madeline Gonzalez at (202) 606-2838; FAX at (202) 606-4264; or e-mail at pay-performance-policy@opm.gov.

SUPPLEMENTARY INFORMATION: On October 31, 2003, the Office of Personnel Management (OPM) published a proposed rule (68 FR 62027) to change the timing of annual wage surveys conducted by the Bureau of Reclamation (BOR), Department of the Interior (DOI), to determine prevailing rates of pay for supervisors of negotiated rate wage employees in the Bureau's Mid-Pacific Region. The proposed rule had a 30-day comment period, during which we received no comments. Currently, BOR conducts wage surveys in the region in October each year. Wage surveys will be conducted in the future in February.

DOI asked OPM to change the survey month for local wage surveys in the Mid-Pacific Region because February represents the best timing in relation to wage adjustments in the surveyed local private enterprise establishments and would improve the quality of data BOR collects during local wage surveys in this special wage area. Local private industry establishments surveyed by BOR in the Mid-Pacific Region typically make their wage adjustments effective in January of each year. BOR will conduct wage surveys in February in the Mid-Pacific Region beginning in calendar year 2004. Since DOI implements the results of the wage surveys in the month following the survey month, wage adjustments for supervisors of negotiated rate wage employees in the Mid-Pacific Region will become effective in March. Thus, they will more closely coincide with local prevailing rates.

Regulatory Flexibility Act

I certify that this regulation would not have a significant economic impact on a substantial number of small entities because it would affect only Federal agencies and employees.

List of Subjects in 5 CFR Part 532

Administrative practice and procedure, Freedom of information, Government employees, Reporting and recordkeeping requirements, Wages.

Office of Personnel Management.
Kay Coles James,
Director.

Accordingly, the Office of Personnel Management proposes to amend 5 CFR part 532 as follows:

PART 532—PREVAILING RATE SYSTEMS

1. The authority citation for part 532 continues to read as follows:

Authority: 5 U.S.C. 5343, 5346; § 532.707 also issued under 5 U.S.C. 552.

§ 532.285 [Amended]

2. In § 532.285 paragraph (d), amend the special wage area listing for the Mid-Pacific Region by removing from beginning month of survey “October” and adding in its place “February.”

[FR Doc. 04-3252 Filed 2-12-04; 8:45 am]

BILLING CODE 6325-39-P